NATIONAL AERONAUTICS AND SPACE ADMINISTRATION

48 CFR Parts 1801, 1803, 1804, 1815, and 1852

NASA Federal Acquisition Regulation Supplement

AGENCY: National Aeronautics and Space Administration.

ACTION: Technical amendments.

SUMMARY: NASA is making technical amendments to the NASA FAR Supplement (NFS) to provide needed editorial changes.

DATES: Effective: June 19, 2018.

FOR FURTHER INFORMATION CONTACT: Geoffrey Sage, NASA, Office of Procurement, Contract and Grant Policy Division, via email at geoffrey.s.sage@nasa.gov, or telephone (202) 358-2420.

SUPPLEMENTARY INFORMATION:

I. Background

As part of NASA's retrospective review of existing regulations NASA is conducting periodic reviews of the NASA FAR Supplement (NFS) to ensure the accuracy of information disseminated to the acquisition community. This rule makes administrative changes to the NFS to correct typographical errors as well as inadvertent omissions from prior rulemaking actions. A summary of changes follows:

• Section 1801.105-1, paragraph (b)(iii), is revised to update the internet link to “https://www.hq.nasa.gov/office/procurement/regs/NFS.pdf ”.

• Section 1803.906, paragraph (d), is revised by replacing the word “Unites” with the word “United”.

• Section 1804.170 is revised to remove the paragraph designations “(a)” and “(b)” and combine the two paragraphs.

• Section 1815.203-72 is revised to remove the redundant words “and RFOs”.

• Section 1815.305-70, paragraph (a)(3), is revised by replacing the word “eficiencies” with the word “deficiencies”.

• Section 1852.215-79 is revised by replacing the clause reference “52.215-21” with the clause reference “52.215-9”.

• Section 1852.216-76 is revised to remove the words “, e.g., issuance of unilateral modification by contracting officer” from paragraph (c).

• Section 1852.245-71 is revised to provide space for a contracting officer to “check” if property and services are provided in paragraphs (c)(1) through (11).

• Section 1852.247-71 is revised by replacing the word “Mammals” with the word “Mammal” in paragraph (a).

List of Subject in 48 CFR Parts 1801, 1803, 1804, 1815, and 1852

Government procurement.

Geoffrey Sage,
NASA FAR Supplement Manager.

Accordingly, 48 CFR parts 1801, 1803, 1804, 1815, and 1852 are amended as follows:

1. The authority citation for parts 1801, 1803, 1804, 1815, and 1852 continues to read as follows:

Authority: 51 U.S.C. 20113(a) and 48 CFR chapter 1.

PART 1801—FEDERAL ACQUISITION REGULATIONS SYSTEM

1801.105-1 [Amended]

2. Amend section 1801.105-1 by removing “http://www.hq.nasa.gov/office/procurement/regs/nfstoc.htm” from paragraph (b)(iii) and adding “https://www.hq.nasa.gov/office/procurement/regs/NFS.pdf ” in its place.

PART 1803—IMPROPER BUSINESS PRACTICES AND PERSONAL CONFLICTS OF INTEREST

1803.906 [Amended]

3. Amend section 1803.906 by removing from paragraph (d) “Unites” and adding “United” in its place.

PART 1804-ADMINISTRATIVE MATTERS

1804.170 [Amended]

4. Revise section 1804.170 to read as follows:

1804.170 Contract effective date.

“Contract effective date” means the date agreed upon by the parties for beginning the period of performance under the contract. In no case shall the effective date precede the date on which the contracting officer or designated higher approval authority signs the document. Costs incurred before the contract effective date are unallowable unless they qualify as precontract costs (see FAR 31.205-32) and the clause prescribed at 1831.205-70 is used.

PART 1815—CONTRACTING BY NEGOTIATION

1815.203-72 [Amended]

5. Amend section 1815.203-72 by removing the words “and RFOs”.

1815.305-70 [Amended]

6. Amend section 1815.305-70 by removing from paragraph (a)(3) the word “eficiencies” and adding “deficiencies” in its place.

PART 1852—SOLICITATION PROVISIONS AND CONTRACT CLAUSES

1852.215-79 [Amended]

7. Amend section 1852.215-79 by—

a. In the clause heading, removing “(DEC 1988)” and adding “(JUN 2018)” in its place; and

b. Removing “52.215-21” and adding “52.215-9” in its place.

1852.216-76 [Amended]

8. Amend section 1852.216-76 by—

a. In the clause heading, removing “(APR 2012)” and adding “(JUN 2018)” in its place; and

b. Removing from paragraph (c) “, e.g., issuance of unilateral modification by contracting officer”.

1852.245-71 [Amended]

9. Amend section 1852.245-71 by revising the date of the clause and paragraphs (c)(1) through (11) to read as follows:

1852.245-71 Installation-accountable Government Property.

* * * * *

INSTALLATION—ACCOUNTABLE GOVERNMENT PROPERTY (JUN 2018)

* * * * *

(c) * * *

_(1) Office space, work area space, and utilities. Government telephones are available for official purposes only.

_(2) Office furniture.

_(3) Property listed in [Insert attachment number or “not applicable” if no equipment is provided].

(i) If the Contractor acquires property, title to which vests in the Government pursuant to other provisions of this contract, this property also shall become accountable to the Government upon its entry into Government records.

(ii) The Contractor shall not bring to the installation for use under this contract any property owned or leased by the Contractor, or other property that the Contractor is accountable for under any other Government contract, without the Contracting Officer's prior written approval.

_(4) Supplies from stores stock.

_(5) Publications and blank forms stocked by the installation.

_(6) Safety and fire protection for Contractor personnel and facilities.

_(7) Installation service facilities: [Insert the name of the facilities or “none”].

_(8) Medical treatment of a first-aid nature for Contractor personnel injuries or illnesses sustained during on-site duty.

_(9) Cafeteria privileges for Contractor employees during normal operating hours.

_(10) Building maintenance for facilities occupied by Contractor personnel.

_(11) Moving and hauling for office moves, movement of large equipment, and delivery of supplies. Moving services may be provided on-site, as approved by the Contracting Officer.

* * * * *

1852.247-71 [Amended]

10. Amend section 1852.247-71 by—

a. In the clause heading, removing “(JUL 2015)” and adding “(JUN 2018)” in its place; and

b. Removing from paragraph (a) “Mammals” and adding “Mammal” in its place.

[FR Doc. 2018-13088 Filed 6-18-18; 8:45 a.m.]

BILLING CODE 7510-13-P